DEPARTMENT OF AGRICULTURE

Submission for OMB Review; Comment Request

The Department of Agriculture will submit the following information collection requirement(s) to OMB for review and clearance under the Paperwork Reduction Act of 1995, Public Law 104-13 on or after the date of publication of this notice. Comments are requested regarding: (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by June 20, 2025. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service (NASS)

Title: Cold Storage Survey.

OMB Control Number: 0535-0001.

Summary of Collection: The National Agricultural Statistics Service's primary function is to prepare and issue state and national estimates of crop and livestock production, value, and disposition. In this capacity the Agency also prepares a number of associated estimates affecting the agriculture industry, such as this Cold Storage report. This monthly survey provides information on national supplies of food in refrigerated storage facilities. A biennial survey of refrigerated warehouses is also conducted to provide a benchmark of the capacity available for refrigerated storage of the nation's food supply.

Providing information on national supplies of food in refrigerated storage facilities has been the responsibility of the Department of Agriculture since 1914. This service is the outcome of an investigation made by the Department in 1911, in response to allegations that food warehouses were being used by food speculators to “corner the market” and drive up prices paid by consumers. The Secretary of Agriculture recommended that the public should know the amounts of foods in warehouses and that the Department should issue periodic reports on a pre-announced date and time.

General authority for these data collection activities is granted under U.S. Code title 7, section 2204. This statute specifies that “The Secretary of Agriculture shall procure and preserve all information concerning agriculture which he can obtain . . . by the collection of statistics . . . and shall distribute them among agriculturists.”

Need and Use of the Information: The monthly Cold Storage reports include inventory statistics for approximately 110 food items held in public, private, and semi-private refrigerated warehouses. USDA agencies such as the World Agricultural Outlook Board, Economic Research Service, and Agricultural Marketing Service use information from the Cold Storage reports in administering government commodity programs and in supply and demand analysis. Included in the reports are stocks of frozen orange juice concentrate, butter, and cheese, which are traded on the Chicago Board of Trade.

Description of Respondents: Business or other for-profit; Farms.

Number of Respondents: 1,567.

Frequency of Responses: Reporting: Monthly; Annually.

Total Burden Hours: 5,145.

National Agricultural Statistics Service

Title: Custom Work Survey.

OMB Control Number: 0535-0266.

Summary of Collection: The primary functions of the National Agricultural Statistics Service (NASS) are to prepare and issue current official State and national estimates of crop and livestock production, disposition, prices, resource use, and to collect information on related environmental and economic factors. NASS's cooperators have sought NASS's assistance to provide custom rates statistics beneficial to agriculture; these statistics are not covered by NASS's annual Congressional appropriation.

General authority for these data collection activities is granted under U.S. Code title 7, section 2204. This statute specifies that “The Secretary of Agriculture shall procure and preserve all information concerning agriculture which he can obtain . . . by the collection of statistics . . . and shall distribute them among agriculturists.”

Need and Use of the Information: NASS will conduct a sample survey of agricultural operations that have knowledge of rates for custom agricultural work. The universe is composed of all active agricultural operations in the states that are conducting a survey. The sampled operations will be asked several screening questions. Those that qualify to respond to the survey will be asked to provide rates for any custom agricultural work for which they have knowledge. Individuals that do not operate a farm or that do not have a knowledge of custom rates will screen out of the survey. The purpose of the survey is to collect custom rates from agricultural workers.

Description of Respondents: Business or other for-profit; Farms.

Number of Respondents: 41,500.

Frequency of Responses: Reporting: Annually.

Total Burden Hours: 15,027.

National Agricultural Statistics Service

Title: Cooperator Funded Chemical Use Surveys.

OMB Control Number: 0535-0273.

Summary of Collection: The primary function of the National Agricultural Statistics Service (NASS) is to prepare and issue current official State and national estimates of crop and livestock production, value, disposition, and resource use. General authority for these data collection activities is granted under U.S. Code title 7, section 2204. This statute specifies that “The Secretary of Agriculture shall procure and preserve all information concerning agriculture which he can obtain . . . by the collection of statistics . . . and shall distribute them among agriculturists.” NASS's cooperators have sought NASS's assistance to provide statistics beneficial to agriculture but are not covered by NASS's annual Congressional appropriation.

Data collected in the Maryland Pesticide Usage Survey will provide the Maryland Dept. of Agriculture (MdDA) with comprehensive information about what pesticides are being used around the state and future surveys will help determine what trends are developing. The data will also help agriculture and industry professionals understand what is being used, and it will provide public and environmental health experts with information that can help them focus their research and monitoring efforts.

The primary use for the Minnesota Pesticide and Fertilizer Survey data will be to allow the Minnesota Dept. of Agriculture (MnDA) staff to evaluate the effectiveness and adoption levels of the voluntary Best Management Practice (BMP) guidelines by periodically summarizing pesticide and fertilizer use statistics at the county level and MnDA management district levels. County level detail is needed because there are different BMPs written for specific Pesticide Management Areas (PMA) based on chemical residue found in ground water or surface water through other monitoring means. Fertilizer data will be summarized under different Nitrogen Best Management Practice Regions based on soil types and a separate monitoring program. Results from the Minnesota Pesticide and Fertilizer Best Management Practices Survey will allow the MnDA staff to promote the voluntary nature of the BMPs by demonstrating the adoption levels and practices farmers are using have remained consistent with the BMP guidelines. If verified, this will avoid the need for any mandatory restrictions on chemical use and/or practices.

The primary use for the Mississippi State University Extension Service's (MSUES) Field Crop Production Practice and Chemical Use Surveys will be to create Enterprise Budgets for corn, cotton, rice, wheat, and soybeans. No chemical use data will be published, but chemical use data are an important part of determining Enterprise Budgets.

The Illinois Nutrient Loss Reduction Strategy (NLRS) survey will be conducted on an every-other year basis (for odd numbered years) through a cooperative agreement with the Illinois Nutrient Research Education Council, developed by the Illinois Department of Agriculture. The goal of this survey is to produce statistically defensible estimates of several “in field” and “edge of field” practices conducted by Illinois farmers. These practices have been shown to positively impact water quality by reducing runoff and leaching of nutrients into the waters of Illinois. One of the primary goals of the NLRS is to track implementation of these cultural practices over time to measure implementation of the NLRS.

Need and Use of the Information: The Field Crop Production Practice and Chemical Use Surveys in this request will be conducted to meet research and publication goals for Extension and State Departments of Agriculture. The summarized and published information will be analyzed by the sponsoring cooperators and stakeholders in agriculture. Results will be used to study production agriculture, as well as various programs and policies to determine their impact on agricultural producers and consumers.

Description of Respondents: Businesses or other for-profits; Farms and ranches.

Number of Respondents: 24,200.

Frequency of Responses: Reporting: Annually.

Total Burden Hours: 11,571.

Levi S. Harrell,
Departmental Information Collection Clearance Officer.

[FR Doc. 2025-09025 Filed 5-20-25; 8:45 am]

BILLING CODE 3410-20-P